DEPARTMENT OF HEALTH AND HUMAN SERVICES

Centers for Disease Control and Prevention

[60Day-06-0601]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

The National Tobacco Control Program (NTCP) Chronicle Progress Reporting System—Revision—(OMB No. 0920-0601) National Center for Chronic Disease Prevention and Health Promotion (NCCDPHP), Centers for Disease Control and Prevention (CDC).

Background and Brief Description

Tobacco use is the single most preventable cause of death and disease in the United States and most people begin using tobacco in early adolescence. Annually, tobacco use causes more than 430,000 deaths in the nation, costing approximately $50-70 billion in medical expenses alone. The Centers for Disease Control and Prevention's (CDC) Office on Smoking and Health (OSH) provides funding to state and territory health departments to develop, implement and evaluate comprehensive Tobacco Control Programs (TCPs) based on CDC guidelines provided in Best Practices for Comprehensive Tobacco Control Programs—August 1999 (Atlanta, GA., HHS) and Key Outcome Indicators for Evaluating Comprehensive Tobacco Control Programs—May 2005 (Atlanta, GA., HHS). TCPs are population-based public health programs that are designed to implement and evaluate public health prevention and control strategies, such as: (1) Reduce disease, disability and death related to tobacco use, and (2) reach those communities most impacted by the burden of tobacco use (e.g., racial/ethnic populations, rural dwellers, the economically disadvantaged, etc.). Support for these programs is the cornerstone of OSH's strategy for reducing the burden of tobacco use throughout the nation.

Funding recipients are required to submit progress reports twice yearly to CDC. These reports are used by both the Procurement and Grants Office (PGO) and OSH managers and project officers for the following purposes: To monitor program compliance; assess relative value and anticipated efficacy of proposed future efforts; identify training and technical assistance needs; monitor compliance with cooperative agreement requirements; evaluate the progress made in achieving national and program-specific goals; and respond to inquiries regarding program activities and effectiveness. Cooperative Agreement recipients submit this information, along with annual action plans with associated budgets, to CDC/OSH through the on-line system known as the Chronicle.

Using a standardized format based on OSH's program framework, the Chronicle enables grantees to describe their CDC-funded program activities, expected outcomes, and report on progress. By collecting and housing this information within a searchable database, OSH can draw upon the state-provided information to effectively fulfill its cooperative agreement obligations. Namely to monitor, evaluate and compare individual programs, provide technical assistance to increase the efficacy of state-driven initiatives, and to assess and report aggregate information regarding the overall effectiveness of the National Tobacco Control Program (NTCP). The NTCP Chronicle is complementary to the Grants.Gov electronic grant submission process by facilitating development of the key elements for inclusion in addressing Federal cooperative agreement requirements, thus helping to insure effective evidence and science-based program planning and development efforts of state public health departments.

The NTCP Chronicle supports OSH's broader mission of reducing the burden of tobacco use by enabling OSH staff to more effectively identify the strengths and weaknesses of individual TCPs; to identify the strength of national movement toward reaching the goals specified in Healthy People 2010; and to disseminate information related to successful public health interventions implemented by these organizations to prevent and control the burden of tobacco use. State use of the electronic system is voluntary.

The program is requesting a revision of a currently approved data collection. The revised content includes modifications to some of the Progress Report assessment questions, a reduction in the number of fields a cooperative agreement recipient is required to respond to, and a recalculation to provide a more realistic burden estimate of the amount of time required to complete the Progress Report. There is no cost to the respondents other than their time.

Estimated Annualized Burden Hours
Respondents | Number of respondents | Number of responses per respondent | Average burden per response (in hrs.) | Total burden hours
All States and DC | 51 | 2 | 8 | 816

Dated: June 9, 2006.
Joan F. Karr,
Acting Reports Clearance Officer, Centers for Disease Control and Prevention.

[FR Doc. E6-9337 Filed 6-14-06; 8:45 am]

BILLING CODE 4163-18-P